DEPARTMENT OF HOUSING AND URBAN DEVELOPMENT

[Docket No. FR-7050-N-67]

30-Day Notice of Proposed Information Collection: Evaluation of Moving To Work Cohort 4 Landlord Incentives; OMB Control No.: 2528-New

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: January 23, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, REE, Department of Housing and Urban Development, 451 7th Street SW, Washington, DC 20410; email her at Anna.P.Guido@hud.gov or telephone 202-402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD has submitted to OMB a request for approval of the information collection described in Section A. The Federal Register notice that solicited public comment on the information collection for a period of 60 days was published on August 1, 2022, at 87 FR 46991.

A. Overview of Information Collection

Title of Information Collection: Evaluation of Moving to Work Cohort 4 Landlord Incentives.

OMB Approval Number: 2528-New.

Type of Request: New collection.

Form Number: N/A.

Description of the need for the information and proposed use: The Office of Policy Development and Research at the Department of Housing and Urban Development (HUD) is proposing the collection of information for the Evaluation of Moving to Work Cohort 4 Landlord Incentives.

Congress authorized HUD in 2016 to add 100 PHAs to the Moving to Work Demonstration and mandated that HUD use the expansion to test the impact of specific policies intended to improve the efficacy of PHA programs. The Moving to Work Cohort 4 Landlord Incentives will investigate whether offering incentives to landlords to participate in the Housing Choice Voucher (HCV) program will increase the number of participating landlords and improve the lease-up rate of households with a housing choice voucher.

This Federal Register Notice provides an opportunity to comment on the information collection for the Evaluation of Moving to Work Cohort 4 Landlord Incentives.

After OMB approval of the Paperwork Reduction Act package, Abt Associates will conduct the research over a 3-year period, including the following: conduct a baseline web-based survey of sampled PHAs, baseline site interviews with PHA staff, phone interviews with PHA staff, a follow-up web survey with PHA staff, follow-up site visits at PHA locations, and interviews with landlords in sampled cities.

Information collection | Assumption | Estimated respondents | Frequency of response | Responses per annum | Burden hours per response | Annual burden hours | Hourly cost per response | Annual cost
Baseline 05_Web Survey Treatment PHA 10.05.2022 | All PHAs | 140.00 | 0.33 | 46.67 | 0.50 | $23.33 | $54.96 | $1,282.43
06_Baseline Web Survey Comparison PHA 10.05.2022.
09_Baseline Site Visit Interviews Y2 10.05.2022 | 29 PHAs, 4 interviews per PHA | 112.00 | 0.33 | 37.33 | 1.00 | 37.33 | 54.96 | 2,051.88
10_Phone Interviews Y3 10.05.2022 | 29 PHAs, 3 interviews per PHA | 84.00 | 0.33 | 28.00 | 0.75 | 21.00 | 54.96 | 1,154.18
07_Follow-up Web Survey Treatment PHA 10.05.2022 | All PHAs | 140.00 | 0.33 | 46.67 | 0.50 | 23.33 | 54.96 | 1,282.43
08_Follow-up Web Survey Comparison PHA 10.05.2022.
11_Follow-up Site Visit Interviews Treatment PHA Y5 10.05.2022 | 50 PHAs, 4 interviews per PHA | 200.00 | 0.33 | 66.67 | 1.00 | 66.67 | 54.96 | 3,664.07
12_Follow-up Site Visit Interviews Comparison PHA Y5 10.05.2022.
14_Landlord Interviews TIA 10.05.2022 | All landlords | 400.00 | 0.33 | 133.34 | 1.00 | 133.34 | 35.20 | 4,693.43
15_Landlord Interviews QuIP 10.05.2022.
Total Annual Cost |  |  |  |  |  |  |  | 14,128.42
Total Cost for 3 Years |  |  |  |  |  |  |  | 42,385.25

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Departmental PRA Clearance Officer, Office of the Chief Data Officer.

[FR Doc. 2022-27796 Filed 12-21-22; 8:45 am]

BILLING CODE P